FEDERAL MARITIME COMMISSION

Ocean Transportation Intermediary License Applicants

Notice is hereby given that the following applicants have filed with the Federal Maritime Commission an application for license as a Non-Vessel-Operating Common Carrier and Ocean Freight Forwarder-Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel-Operating Common Carrier Ocean Transportation Intermediary Applicants:

Rubby Express International Corp., 8130 NW 71st Street, Miami, FL 33166. Officer: Maria Rubiela Alzate, President (Qualifying Individual).

Gold Cargo Freight, Corp., 8237 NW 68 Street, Miami, FL 33166. Officers: Jorge A. Troconis, President (Qualifying Individual), Rossana Troconis, Director.

Non-Vessel-Operating Common Carrier and Ocean Freight Forwarder Transportation Intermediary Applicants:

Worldwide 750 Inc., 8478 NW 72nd Street, Miami, FL 33166. Officer: Jose G. Falcon, President (Qualifying Individual).

CM Cargo International, LLC., 7818 NW 46 Street, Miami, FL 33166. Officer: Karin Chakour, President (Qualifying Individual).

Rihua Shipping USA, 333 West Garvey Avenue, #B, PMB 322, Monterey Park, CA 91754. Officers: Fe M. Maloles, Treasurer (Qualifying Individual), Jingbo (Angela) Zhu, President.

Meehan International Logistics, Inc., 152-31 135th Avenue, Jamaica, NY 11434. Officers: John J. Meehan, III, President (Qualifying Individual), Suzanne R. Meehan, Vice President.

Valgor Business Consultants Inc., 3425 Garden Ln., Miramar, FL 33023. Officer: Otto J. Valdes, President (Qualifying Individual).

Independent Ocean Services, Inc., 18 East 48th Street, PH, New York, NY 10162. Officers: Bernard G. Lugez, President (Qualifying Individual), Bruno Siemiesz, Vice President.

Ocean Freight Forwarder-Ocean Transportation Intermediary Applicants:

Neutral Sea, LLC, 1200 NW 78th Avenue, Suite 301, Doral, FL 33126. Officers: John T. Mendez, Vice President (Qualifying Individual), Alexander Teller, CEO.

Masters Shipping Inc., 2196 Fescue Drive, Aurora, IL 60504. Officers: Hani Zaki, Manager (Qualifying Individual), Eman Abdelhafez, President.

Ocean Shipping Line, 400 Continental Blvd., 6th Floor, El Segundo, CA 90245. Officer: Sam Ikwueme, CEO (Qualifying Individual).

Dated: June 22, 2007.
Bryant L. VanBrakle,
Secretary.

[FR Doc. E7-12439 Filed 6-26-07; 8:45 am]

BILLING CODE 6730-01-P